DEPARTMENT OF HOMELAND SECURITY

Federal Emergency Management Agency

[Docket ID FEMA-2022-0002; Internal Agency Docket No. FEMA-B-2205]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Peoria (21-09-1679P). | The Honorable Cathy Carlat, Mayor, City of Peoria, 8401 West Monroe Street, Peoria, AZ 85345. | City Hall, 8401 West Monroe Street, Peoria, AZ 85345. | https://msc.fema.gov/portal/advanceSearch. | Mar. 11, 2022 | 040050
Maricopa | City of Phoenix (21-09-0190P). | The Honorable Kate Gallego, Mayor, City of Phoenix, 200 West Washington Street, Phoenix, AZ 85003. | Street Transportation Department, 200 West Washington Street, 5th Floor, Phoenix, AZ 85003. | https://msc.fema.gov/portal/advanceSearch. | Mar. 11, 2022 | 040051
Maricopa | Unincorporated Areas of Maricopa County (21-09-0190P). | The Honorable Jack Sellers, Chairman, Board of Supervisors, Maricopa County, 301 West Jefferson Street, 10th Floor, Phoenix, AZ 85003. | Flood Control District of Maricopa County, 2801 West Durango Street, Phoenix, AZ 85009. | https://msc.fema.gov/portal/advanceSearch. | Mar. 11, 2022 | 040037
Maricopa | Unincorporated Areas of Maricopa County (21-09-1679P). | The Honorable Jack Sellers, Chairman, Board of Supervisors, Maricopa County, 301 West Jefferson Street, 10th Floor, Phoenix, AZ 85003. | Flood Control District of Maricopa County, 2801 West Durango Street, Phoenix, AZ 85009. | https://msc.fema.gov/portal/advanceSearch. | Mar. 11, 2022 | 040037
Yavapai | Town of Dewey-Humboldt (21-09-0533P). | The Honorable John Hughes, Mayor, Town of Dewey-Humboldt, 2735 South Highway 69, Suite 12, Humboldt, AZ 86329. | Town Hall, 2735 South Highway 69, Suite 12, Humboldt, AZ 86329. | https://msc.fema.gov/portal/advanceSearch. | Mar. 24, 2022 | 040061
Yavapai | Town of Prescott Valley (21-09-0533P). | The Honorable Kell Palguta, Mayor, Town of Prescott Valley, Civic Center, 7501 East Skoog Boulevard, 4th Floor, Prescott Valley, AZ 86314. | Town Hall, Engineering Division, 7501 East Civic Circle, Prescott Valley, AZ 86314. | https://msc.fema.gov/portal/advanceSearch. | Mar. 24, 2022 | 040121
Yavapai | Town of Prescott Valley (21-09-1015P). | The Honorable Kell Palguta, Mayor, Town of Prescott Valley, Civic Center, 7501 East Skoog Boulevard, 4th Floor, Prescott Valley, AZ 86314. | Town Hall, Engineering Division, 7501 East Civic Circle, Prescott Valley, AZ 86314. | https://msc.fema.gov/portal/advanceSearch. | Apr. 6, 2022 | 040121
Illinois:
Cook | City of Country Club Hills (21-05-1457P). | The Honorable James W. Ford, Mayor, City of Country Club Hills, 4200 West 183rd Street, Country Club Hills, IL 60478. | City Hall, 4200 West 183rd Street, Country Club Hills, IL 60478. | https://msc.fema.gov/portal/advanceSearch. | Mar. 11, 2022 | 170078
Cook | City of Palos Heights (21-05-3445P). | The Honorable Robert Straz, Mayor, City of Palos Heights, 7607 West College Drive, Palos Heights, IL 60463. | City Hall, 7607 West College Drive, Palos Heights, IL 60463. | https://msc.fema.gov/portal/advanceSearch. | Mar. 11, 2022 | 170142
Cook | Unincorporated Areas of Cook County (21-05-3445P). | The Honorable Toni Preckwinkle, President, Cook County Board, 118 North Clark Street, Room 537, Chicago, IL 60602. | Cook County Building and Zoning Department, 69 West Washington, 28th Floor, Chicago, IL 60602. | https://msc.fema.gov/portal/advanceSearch. | Mar. 11, 2022 | 170054
Kansas:
Johnson | City of Lenexa (21-07-0238P). | The Honorable Michael Boehm, Mayor, City of Lenexa, 17101 West 87th Street Parkway, Lenexa, KS 66219. | City Hall, 12350 West 87th Street Parkway, Lenexa, KS 66215. | https://msc.fema.gov/portal/advanceSearch. | Apr. 13, 2022 | 200168
New York:
Erie | Town of Lancaster (2-02-1556P). | Mr. Ronald Ruffino, Sr., Supervisor, Town of Lancaster, 21 Central Avenue, Lancaster, NY 14086. | Town Hall, 21 Central Avenue, Lancaster, NY 14086. | https://msc.fema.gov/portal/advanceSearch. | May 17, 2022 | 360249
Onondaga | Town of Lysander (21-02-0578P). | Mr. Robert A. Wicks, Supervisor, Town of Lysander, 8220 Loop Road, Baldwinsville, NY 13027. | Town Hall, 8220 Loop Road, Baldwinsville, NY 13027. | https://msc.fema.gov/portal/advanceSearch. | May 3, 2022 | 360583
Westchester | Village of Mamaroneck (21-02-0550P). | The Honorable Thomas A. Murphy, Mayor, Village of Mamaroneck, 123 Mamaroneck Avenue, Mamaroneck, NY 10543. | Building Inspector, The Regatta Building, 123 Mamaroneck Avenue, Mamaroneck, NY 10543. | https://msc.fema.gov/portal/advanceSearch. | Apr. 20, 2022 | 360916
Texas:
Tarrant | City of Arlington (21-06-0854P). | The Honorable Jim Ross, Mayor, City of Arlington, P.O. Box 90231, Arlington, TX 76004. | City Hall, 101 West Abram Street, Arlington, TX 76010. | https://msc.fema.gov/portal/advanceSearch. | Mar. 28, 2022 | 485454
Tarrant | City of Fort Worth (21-06-0854P). | The Honorable Mattie Parker, Mayor, City of Fort Worth, 200 Texas Street, Fort Worth, TX 76102. | Department of Transportation and Public Works, 200 Texas Street, Fort Worth, TX 76012. | https://msc.fema.gov/portal/advanceSearch. | Mar. 28, 2022 | 480596
Wisconsin:
Dane | City of Madison (21-05-2552P). | The Honorable Satya Rhodes-Conway, Mayor, City of Madison, 210 Martin Luther King Jr. Boulevard, Room 403, Madison, WI 53703. | City Hall, 210 Martin Luther King Jr. Boulevard, Room 403, Madison, WI 53703. | https://msc.fema.gov/portal/advanceSearch. | Apr. 12, 2022 | 550083

[FR Doc. 2022-01620 Filed 1-26-22; 8:45 am]

BILLING CODE 9110-12-P